DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: Individual and Family Grant (IFG) and the Individuals and Households Program—Other Needs Assistance (IHP-ONA).

OMB Number: 1660-0018.

Abstract: This collection of information is essential to the effective monitoring and management of the IFG/IHP-ONA Program by FEMA Regional Office staff who have oversight responsibility of ensuring that the State perform and adhere to FEMA regulations and policy guidance. The collection involves completion of the following FEMA Forms (FF): FF 76-27; FF 76-28; FF 76-29; 76-32; FF 76-34; and FF 76-38.

Affected Public: Federal, State, Local or Tribal Governments.

Number of Respondents: 40.

Estimated Time per Respondent: 7.33 hours for completion of all forms with allocated response time for individual forms as follows: FF 76-27, 15 minutes; FF 76-28, 5 minutes; FF 76-29, 30 minutes; 76-32, 30 minutes; FF 76-34, 4 hours; and FF 76-38, 2 hours.

Estimated Total Annual Burden Hours: 301 Hours.

Frequency of Response: Once for all forms except FF 76-28 which is completed occasionally.

Comments: Interested persons are invited to submit written comments on the proposed information collection to the Office of Information and Regulatory Affairs at OMB, Attention: Nathan Lessor, Desk Officer for the Department of Homeland Security/FEMA, Docket Library, Room 10102, 725 17th Street, NW., Washington, DC 20503, or facsimile number (202) 395-7285. Comments must be submitted on or before July 26, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Dated: June 15, 2006.
John A. Sharetts-Sullivan,
Chief, Records Management Section, Information Resources Management Branch, Information Technology Services Division.

[FR Doc. E6-10029 Filed 6-23-06; 8:45 am]

BILLING CODE 9110-10-P